DEPARTMENT OF ENERGY

Federal Energy Regulatory Commission

Combined Notice of Filings #1

Take notice that the Commission received the following Complaints and Compliance filings in EL Dockets:

Docket Numbers: EL22-17-000.

Applicants: Niagara Mohawk Power Corporation.

Description: Supplement to August 23, 2022 Filing of Niagara Mohawk Power Corporation d/b/a National Grid in Compliance with March 11, 2022 Order, and Request for Shortened Seven-Day Comment Period, etc.

Filed Date: 10/11/22.

Accession Number: 20221011-5399.

Comment Date: 5 p.m. ET 10/18/22.

Take notice that the Commission received the following electric rate filings:

Docket Numbers: ER13-2387-010; ER15-190-020; ER18-1343-013.

Applicants: Carolina Solar Power, LLC, Duke Energy Renewable Services, LLC, Duke Energy Florida, Inc.

Description: Second Amendment to July 28, 2022, Notice of Non-Material Change in Status of Duke Energy Florida, LLC, et al.

Filed Date: 10/13/22.

Accession Number: 20221013-5045.

Comment Date: 5 p.m. ET 10/24/22.

Docket Numbers: ER22-2773-001.

Applicants: Smoky Mountain Transmission LLC.

Description: Tariff Amendment: Request for Deferral of Action to be effective 12/31/9998.

Filed Date: 10/13/22.

Accession Number: 20221013-5131.

Comment Date: 5 p.m. ET 11/3/22.

Docket Numbers: ER23-75-000.

Applicants: Energy Harbor LLC.

Description: Request for Waiver of Energy Harbor LLC.

Filed Date: 10/11/22.

Accession Number: 20221011-5401.

Comment Date: 5 p.m. ET 11/1/22.

Docket Numbers: ER23-76-000.

Applicants: Sustainable Star, LLC.

Description: Notice of Cancellation of Market Based Rate Tariff of Sustainable Star, LLC.

Filed Date: 10/11/22.

Accession Number: 20221011-5402.

Comment Date: 5 p.m. ET 11/1/22.

Docket Numbers: ER23-77-000.

Applicants: New York State Electric & Gas Corporation, New York Independent System Operator, Inc.

Description: § 205(d) Rate Filing: New York State Electric & Gas Corporation submits tariff filing per 35.13(a)(2)(iii: NYISO-NYSEG Joint 205: SGIA NYISO, NYSEG, SunEast Valley Solar SA2729—CEII to be effective 10/3/2022.

Filed Date: 10/13/22.

Accession Number: 20221013-5007.

Comment Date: 5 p.m. ET 11/3/22.

Docket Numbers: ER23-78-000.

Applicants: Central Hudson Gas & Electric Corporation, New York Independent System Operator, Inc.

Description: § 205(d) Rate Filing: Central Hudson Gas & Electric Corporation submits tariff filing per 35.13(a)(2)(iii: NYISO Joint 205: LGIA NYISO, Central Hudson, KCE NY 2 Project SA2719—CEII to be effective 9/30/2022.

Filed Date: 10/13/22.

Accession Number: 20221013-5013.

Comment Date: 5 p.m. ET 11/3/22.

Docket Numbers: ER23-79-000.

Applicants: Southern California Edison Company.

Description: § 205(d) Rate Filing: Kitching St & San Michele Rd 1st Amend Letter to IFA-DSA + 3 Load Terminations to be effective 10/14/2022.

Filed Date: 10/13/22.

Accession Number: 20221013-5051.

Comment Date: 5 p.m. ET 11/3/22.

Docket Numbers: ER23-80-000.

Applicants: The Connecticut Light and Power Company.

Description: Tariff Amendment: Cancelation of Engineering, Design, Procurement Agreement—EIP Investments, LLC to be effective 10/14/2022.

Filed Date: 10/13/22.

Accession Number: 20221013-5071.

Comment Date: 5 p.m. ET 11/3/22.

Docket Numbers: ER23-81-000.

Applicants: PJM Interconnection, L.L.C.

Description: § 205(d) Rate Filing: Amendment to ISA, Service Agreement No. 6106; Queue No. AD2-213 to be effective 6/17/2021.

Filed Date: 10/13/22.

Accession Number: 20221013-5108.

Comment Date: 5 p.m. ET 11/3/22.

Docket Numbers: ER23-82-000.

Applicants: Citizens Sunrise Transmission LLC.

Description: § 205(d) Rate Filing: Annual TRBAA Filing October 2022 to be effective 1/1/2023.

Filed Date: 10/13/22.

Accession Number: 20221013-5110.

Comment Date: 5 p.m. ET 11/3/22.

Docket Numbers: ER23-83-000.

Applicants: PJM Interconnection, L.L.C.

Description: § 205(d) Rate Filing: Amendment to WMPA, Service Agreement No. 6080; Queue No. AF2-274 to be effective 5/4/2021.

Filed Date: 10/13/22.

Accession Number: 20221013-5116.

Comment Date: 5 p.m. ET 11/3/22.

Docket Numbers: ER23-84-000.

Applicants: Citizens Sycamore-Penasquitos Transmission LLC.

Description: § 205(d) Rate Filing: Annual TRBAA Filing for 2022 to be effective 1/1/2023.

Filed Date: 10/13/22.

Accession Number: 20221013-5132.

Comment Date: 5 p.m. ET 11/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 13, 2022.
Debbie-Anne A. Reese,
Deputy Secretary.

[FR Doc. 2022-22684 Filed 10-18-22; 8:45 am]

BILLING CODE 6717-01-P